DEPARTMENT OF AGRICULTURE

Grain Inspection, Packers and Stockyards Administration

7 CFR Part 810

United States Standards for Flaxseed

AGENCY: Grain Inspection, Packers and Stockyards Administration, USDA.

ACTION: Request for information.

SUMMARY: The United States Department of Agriculture's (USDA) Grain Inspection, Packers and Stockyards Administration (GIPSA) is seeking comments from the public regarding the United States (U.S.) Standards for Flaxseed under the United States Grain Standards Act (USGSA). To ensure that standards and official grading practices remain relevant, GIPSA invites interested parties to comment on whether the current flaxseed standards and grading practices need to be changed.

DATES: We will consider comments we receive by March 21, 2016.

ADDRESSES: You may submit written or electronic comments on this request for information to:

• Mail: Irene Omade, GIPSA, USDA, STOP 3642, 1400 Independence Avenue SW., Room 2530-B, Washington, DC 20250-3604.

• Fax: (202) 690-2173.

• Internet: Go to http://www.regulations.gov and follow the on-line instruction for submitting comments.

All comments will become a matter of public record and should be identified as “U.S. Flaxseed Standards request for information comments,” making reference to the date and page number of this issue of the Federal Register. All comments received become the property of the Federal government, are a part of the public record, and will generally be posted to www.regulations.gov without change. If you send an email comment directly to GIPSA without going through www.regulations.gov, or you submit a comment to GIPSA via fax, the originating email address or telephone number will be automatically captured and included as part of the comment that is placed in the public docket and made available on the Internet. Also, all personal identifying information (for example, name, address, etc.) voluntarily submitted by the commenter may be publicly accessible. Do not submit confidential business information or otherwise sensitive or protected information.

Electronic submissions should avoid the use of special characters, avoid any form of encryption, and be free of any defects or viruses, since these may prevent GIPSA from being able to read and understand, and thus consider your comment.

GIPSA will post a transcript or report summarizing each substantive oral comment that we receive. This would include comments made at any public meetings hosted by GIPSA during the comment period, unless GIPSA publically announces otherwise.

All comments will also be available for public inspection at the above address during regular business hours (7 CFR 1.27(b)). Please call the GIPSA Management and Budget Services support staff (202) 720-8479 for an appointment to view the comments.

FOR FURTHER INFORMATION CONTACT: Robert Dorman at GIPSA, USDA, 10383 N. Ambassador Drive, Kansas City, MO 64153; Telephone (816) 659-8411; Fax Number (816) 872-1258; email Robert.J.Dorman@usda.gov.

SUPPLEMENTARY INFORMATION: Under the authority of the USGSA (7 U.S.C. 76), GIPSA establishes standards for flaxseed and other grains regarding kind, class, quality and condition. The flaxseed standards, established by USDA on August 1, 1934, were last revised in 1987 and appear in the USGSA regulations at 7 CFR 810.601 through 810.604. The standards facilitate flaxseed marketing and define U.S. flaxseed quality in the domestic and global marketplace. The standards define commonly used industry terms; contain basic principles governing the application of standards, such as the type of sample used for a particular quality analysis; the basis of determination; and specify grades and grade requirements. Official procedures for determining grading factors are provided in GIPSA's Grain Inspection Handbook, Book II, Chapter 5, “Flaxseed” which also includes standardized procedures for additional quality attributes not used to determine grade, such as dockage and moisture content. Together, the grading standards and testing procedures allow buyers and sellers to communicate quality requirements, compare flaxseed quality using equivalent forms of measurement and assist in price discovery.

GIPSA's grading and inspection services are provided through a network of federal, state, and private laboratories that conduct tests to determine the quality and condition of flaxseed. These tests are conducted in accordance with applicable standards using approved methodologies and can be applied at any point in the marketing chain. Furthermore, the tests yield rapid, reliable and consistent results. In addition, GIPSA-issued certificates describing the quality and condition of graded flaxseed are accepted as prima facie evidence in all Federal courts. U.S. flaxseed standards and the affiliated grading and testing services offered by GIPSA verify that a seller's flaxseed meets specified requirements, and ensure that customers receive the quality of flaxseed they purchased.

In order for U.S. standards and grading procedures for flaxseed to remain relevant, GIPSA is issuing this request for information to invite interested parties to submit comments, ideas, and suggestions on all aspects of the U.S. flaxseed standards and inspection procedures.

Authority: 7 U.S.C. 71-87K.

Larry Mitchell,
Administrator, Grain Inspection, Packers and Stockyards Administration.

[FR Doc. 2016-01045 Filed 1-20-16; 8:45 am]

BILLING CODE 3410-KD-P